DEPARTMENT OF DEFENSE

Office of the Secretary

[Docket ID: DoD-2022-OS-0091]

Proposed Collection; Comment Request

AGENCY: Chief Information Officer (CIO), Department of Defense (DoD).

ACTION: 60-Day information collection notice.

SUMMARY: In compliance with the Paperwork Reduction Act of 1995, the Office of the DoD CIO announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by October 3, 2022.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Director of Defense Industrial Base Cybersecurity Program and Director of DoD CIO Cybersecurity Policy and Partnerships, ATTN: Kevin Dulany, Washington, DC 20301, or call: 703-604-3167.

SUPPLEMENTARY INFORMATION:

Title; Associated Form; and OMB Number: DoD's Defense Industrial Base Cybersecurity Activities Cyber Incident Reporting; OMB Control Number 0704-0489.

Needs and Uses: DoD designated the DoD Cyber Crime Center (DC3) as the single focal point for receiving all cyber incident reporting affecting the unclassified networks of DoD contractors from industry and other government agencies. DoD collects cyber incident reports using the Defense Industrial Base Network portal (https://dibnet.dod.mil). Mandatory reporting requirements are addressed in a separate information collection under OMB Control Number 0704-0478 entitled “Safeguarding Covered Defense Information, Cyber Incident Reporting, and Cloud Computing” authorizing the collection of mandatory cyber incident reporting in accordance with 10 U.S.C. 393: “Reporting on Penetrations of Networks and Information Systems of Certain Contractors,” 10 U.S.C. 391: “Reporting on Cyber Incidents with Respect to Networks and Information Systems of Operationally Critical Contractors and Certain Other Contractors, and 50 U.S.C. 3330: “Reports to the Intelligence Community on Penetrations of Networks and Information Systems of Certain Contractors.

This information collection is necessary for the reporting and sharing of cyber incident information from DoD contractors in accordance with 32 CFR part 236, “DoD Defense Industrial Base (DIB) Cybersecurity (CS) Activities,” which authorizes the DIB CS Program. Sharing cyber incident information is critical to DoD's understanding of cyber threats against DoD information systems, programs, and warfighting capabilities. This information helps DoD to inform and mitigate adversary actions that may affect DoD information residing on or transiting unclassified defense contractor networks.

Affected Public: Businesses or other for-profit; Not-for-profit Institutions.

Annual Burden Hours: 85,000 hours.

Number of Respondents: 8,500.

Responses per Respondent: 5.

Annual Responses: 42,500.

Average Burden per Response: 2 hours.

Frequency: On occasion.

Dated: July 28, 2022.
Kayyonne T. Marston,
Alternate OSD Federal Register Liaison Officer, Department of Defense.

[FR Doc. 2022-16518 Filed 8-1-22; 8:45 am]

BILLING CODE 5001-06-P